DEPARTMENT OF ENERGY

Federal Energy Regulatory Commission

[Project No. 4318-005]

The Cobbs, LLC; Noone Falls Energy, LLC; Notice of Transfer of Exemption

1. By letter filed May 3, 2018, The Cobbs, LLC informed the Commission that the exemption from licensing for the .15-MW Noone Mills Project No. 4318, originally issued December 4, 1981 ¹ has been transferred from The Cobbs, LLC to Noone Falls Energy, LLC. The project is located on the Contoocook River in Hillsborough County, New Hampshire. The transfer of an exemption does not require Commission approval.

¹ Order Granting Exemption from Licensing of a Small Hydroelectric Project of 5 Megawatts or Less and Denying Competing Applications for Preliminary Permit. American Hydro Power Company and Darobsum, Inc., 17 FERC ¶ 62,367 (1981).

2. Noone Falls Energy, LLC is now the exemptee of the Noone Mills Project No. 4318. All correspondence should be forwarded to: Mr. Martin G. Greco, Member, Noone Falls Energy, LLC, P.O. Box 9, South Casco, ME 04077, Phone: 207-655-7000, Email: mgreco@evergreenelectric.com.

Dated: March 13, 2019.
Kimberly D. Bose,
Secretary.

[FR Doc. 2019-05107 Filed 3-18-19; 8:45 am]

BILLING CODE 6717-01-P